COMMITTEE FOR PURCHASE FROM PEOPLE WHO ARE BLIND OR SEVERELY DISABLED

Procurement List Proposed Additions and Deletions

AGENCY: Committee for Purchase from People Who Are Blind or Severely Disabled.

ACTION: Proposed Additions to and Deletions from Procurement List.

SUMMARY: The Committee is proposing to add to the Procurement List services to be furnished by nonprofit agencies employing persons who are blind or have other severe disabilities, and to delete products previously furnished by such agencies.

Comments Must Be Received on or Before: October 27, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each service will be required to procure the services listed below from nonprofit agencies employing persons who are blind or have other severe disabilities. I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to Procurement List for production by the nonprofit agencies listed:

Services

Service Type/Location: Administrative Services—Human Resources, Department of Interior—South, Office of Surface Mining, Washington, DC.

NPA: ServiceSource, Inc., Alexandria, Virginia.

Contract Activity: Department of Interior—South, Washington, DC.

Service Type/Location: Base Supply Center & Individual Equipment Element, Ellsworth Air Force Base, South Dakota.

NPA: BH Services, Inc., Box Elder, South Dakota.

Contract Activity: Ellsworth Air Force Base, South Dakota.

Service Type/Location: Custodial Service, Building 4050, Fort Polk, Louisiana.

NPA: Vernon Sheltered Workshop, Leesville, Louisiana.

Contract Activity: Directorate of Contracting, Fort Polk, Louisiana.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products

Product/NSN: Clock, Wall, Battery, 6645-01-467-8477.

NPA: The Chicago Lighthouse for People who are Blind or Visually Impaired, Chicago, Illinois.

Contract Activity: Office Supplies & Paper Products Acquisition Center, New York, New York.

Product/NSN: Clock, Atomic, Standard, Thermometer, 6645-00-NIB-0076.

NPA: The Chicago Lighthouse for People who are Blind or Visually Impaired, Chicago, Illinois.

Contract Activity: Office Supplies & Paper Products Acquisition Center, New York, New York.

Product/NSN: Label, Pressure-Sensitive Adhesive, 7530-00-577-4373, 7530-00-577-4374, 7530-00-577-4375.

NPA: North Central Sight Services, Inc., Williamsport, Pennsylvania.

Contract Activity: Office Supplies & Paper Products Acquisition Center, New York, New York.

Sheryl D. Kennerly,
Director, Information Management.

[FR Doc. 02-24632 Filed 9-26-02; 8:45 am]

BILLING CODE 6353-01-P